DEPARTMENT OF DEFENSE

Department of the Air Force

[Docket ID USAF-2008-0062]

Privacy Act of 1974; System of Records

AGENCY: Department of Air Force, DoD.

ACTION: Notice to Amend a System of Records.

SUMMARY: The Department of Air Force proposes to amend a system of records to its inventory of record systems subject to the Privacy Act of 1974 (5 U.S.C. 552a), as amended.

DATES: The changes will be effective on January 29, 2009 unless comments are received that would result in a contrary determination.

ADDRESSES: Send comments to the Air Force Privacy Act Officer, Office of Warfighting Integration and Chief Information Officer, SAF/XCISI, 1800 Air Force Pentagon, Suite 220, Washington, DC 20330-1800.

FOR FURTHER INFORMATION CONTACT: Mr. Kenneth Brodie at (703) 696-7557.

SUPPLEMENTARY INFORMATION: The Department of the Air Force systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: December 23, 2008.
Morgan E. Frazier,
Alternate OSD Federal Register Liaison Officer, Department of Defense.

F024 AF IL C

System Name:

Motor Vehicle Operator's Records (June 11, 1997, 62 FR 31793).

Changes:

* * * * *

System Location:

Delete entry and replace with “All Air Force Base Driver's License Sections, Air Force Reserve units and Air National Guard activities. Official mailing addresses are published as an appendix to the Air Force's compilation of systems of records notices.”

Categories of individuals covered by the system:

Delete entry and replace with “Any Air Force member, (active duty, national guard, reserve, civilian, nonappropriated fund employee or contractor) required to operate a government vehicle on or off base.”

Categories of records in the system:

Delete entry and replace with “Information collected and stored as data include, but not limited to; name, rank, Social Security Number, date of birth, hair color, eye color, height, weight, civilian license number, state of issue, and any restrictions.”

Authority for maintenance of the system:

Delete entry and replace with “10 U.S.C 10 8013, Secretary of the Air Force; DoD 4500.36-R, Management, Acquisition, and Use of Motor Vehicles; Air Force Instruction 24-301, Transportation, Vehicle Operations and E.O. 9397 (SSN).”

Purpose:

Delete entry and replace with “To create and maintain records of all motor vehicle operators and licenses. In addition, records are created and maintained on all Air Force personnel required to drive government owned or leased vehicles. The data is used to create a printed vehicle operator identification card.”

* * * * *

Storage:

Delete entry and replace with “Paper records and electronic storage media.”

Retrievability:

Delete entry and replace with “Individual's name and/or Social Security Number(SSN).”

* * * * *

Retention and disposal:

Delete entry and replace with “Retained in office files until discharge, separation, or reassignment of the individual. File copy will be provided to individual upon departure.”

System manager and address:

Delete entry and replace with “Program Manager, HQ 754th Electronic Systems Group (HQ 754 ELSG), Transportation Section, 200 E Moore Street, Maxwell Gunter Annex, AL 36114-3004.”

Notification procedures:

Delete entry and replace with “Individuals seeking to determine whether information about themselves is contained in this system of records should address written inquiries to AF A4RF, Pentagon, Washington DC, 20330-1040.

Requests should contain individual's full name, date of birth and Social Security Number, and notary public verified signature.”

Record access procedures:

Delete entry and replace with “Individuals seeking access to information about themselves contained in this system of records should address written inquiries to AF A4RF, Pentagon, Washington DC, 20330-1040.

Requests should contain individual's full name, date of birth and Social Security Number, and notary public verified signature.”

* * * * *

F024 AF IL C

System Name:

Motor Vehicle Operator's Records.

System Location:

All Air Force Base Driver's License Sections, Air Force Reserve units and Air National Guard activities. Official mailing addresses are published as an appendix to the Air Force's compilation of systems of records notices.

Categories of individuals covered by the system:

Any Air Force member, (active duty, national guard, reserve, civilian, nonappropriated fund employee or contractor) required to operate a government vehicle on or off base.

Categories of records in the system:

Information collected and stored as data include, but not limited to; name, rank, Social Security Number (SSN), date of birth, hair color, eye color, height, weight, civilian license number, state of issue and any restrictions.

Authority for maintenance of the system:

10 U.S.C. 10 8013, Secretary of the Air Force; DoD 4500.36-R, Management, Acquisition, and Use of Motor Vehicles; Air Force Instruction 24-301, Transportation, Vehicle Operations and E.O. 9397 (SSN).

Purpose:

To create and maintain records of all motor vehicle operators and licenses. In addition, records are created and maintained on all Air Force personnel required to drive government owned or leased vehicles. The data is used to create a printed vehicle operator identification card.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ published at the beginning of the Air Force's compilation of systems of records notices apply to this system.

Policies and practices for storing, retrieving, accessing, retaining, and disposing of records in the system:

Storage:

Paper records and electronic storage media.

Retrievability:

Individual's name and/or Social Security Number(SSN).

Safeguards:

Records are stored in locked cabinets or rooms and accessed by person(s) responsible for servicing the record system in performance of their official duties.

Retention and disposal:

Retained in office files until discharge, separation or reassignment of the individual. File copy will be provided to individual upon departure.

System manager and address:

Program Manager, HQ 754th Electronic Systems Group (HQ 754 ELSG), Transportation Section, 200 E Moore Street, Maxwell Gunter Annex, AL 36114-3004.

Notification procedures:

Individuals seeking to determine whether information about themselves is contained in this system of records should address written inquiries to AF A4RF, Pentagon, Washington, DC 20330-1040.

Requests should contain individual's full name, date of birth and Social Security Number and notary public verified signature.

Record access procedures:

Individuals seeking access to information about themselves contained in this system of records should address written inquiries to AF A4RF, Pentagon, Washington DC, 20330-1040.

Requests should contain individual's full name, date of birth and Social Security Number and notary public verified signature.

Contesting record procedures:

The Air Force rules for accessing records, and for contesting contents and appealing initial agency determinations are published in Air Force Instruction 37-132; 32 CFR part 806b; or may be obtained from the system manager.

Record source categories:

Information obtained from medical institutions, police and investigating officers, motor vehicles bureaus, state or local governments, witnesses, Department of Transportation.

Exemptions claimed for the system:

None.

[FR Doc. E8-31035 Filed 12-29-08; 8:45 am]

BILLING CODE 5001-06-P